NUCLEAR REGULATORY COMMISSION

Request To Amend a License To Import Radioactive Waste

Pursuant to 10 CFR 110.70(C) “Public notice of receipt of an application,” please take notice that the Nuclear Regulatory Commission has received the following request to amend an import license. Copies of the request are available electronically through ADAMS and can be accessed through the Public Electronic Reading Room (PERR) link http://www.nrc.gov/NRC/ADAMS/index.html at the NRC Home page.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning this amendment request follows.

NRC Import License Amendment Application
Name of applicant date of application: Date received application number docket number | Description of material: Material type | Description of material: Total qty | Description of material: End use | Description of material: Country of origin
Perma-Fix/DSSI, Inc. February 23, 2006 | Class A radioactive mixed waste in various forms including solids, semi-solids, and liquids | 378,000 kg mixed waste containing 1,200 curies tritium, carbon-14, mixed fission product radionuclides and other contaminants | Amend to: (1) Increase the quantity (total activity level) of radioactive contaminants authorized for import by 800 curies or from 1,200 to 2,000 curies; and (2) extend expiration date to 3/31/2008 | Canada
February 28, 2006 IW012/02 11005322 |  |  |  |

Dated this 10th day of May 2006 at Rockville, Maryland.
For The Nuclear Regulatory Commission.
Margaret M. Doane,
Deputy Director, Office of International Programs.

[FR Doc. E6-7787 Filed 5-19-06; 8:45 am]

BILLING CODE 7590-01-P